DEPARTMENT OF ENERGY

Federal Energy Regulatory Commission

[Docket No. RP01-400-001]

PG&E Gas Transmission, Northwest Corporation; Notice of Tariff Filing

June 14, 2001.

Take notice that on June 7, 2001, PG&E Gas Transmission, Northwest Corporation (GTN) tendered for filing as part of its FERC Gas Tariff, First Revised Volume No. 1-A, substitute tariff sheets intended to address certain issues raised by the Commission in its June 1, 2001 Order in this docket.

GTN's filing provides further clarification and explanation as requested by the Commission. GTN requests that the original, revised and substitute tariff sheets filed in this docket become effective July 1, 2001.

GTN further states that a copy of this filing has been served on GTN's jurisdictional customers and interested state regulatory agencies.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-15508 Filed 6-19-01; 8:45 am]

BILLING CODE 6717-01-M